DEPARTMENT OF THE INTERIOR

National Park Service

[N6614; NPS-WASO-NAGPRA-NPS0041345; PPWOCRADN0-PCU00RP14.R50000]

Notice of Intended Repatriation: U.S. Department of the Interior, National Park Service, Salinas Pueblo Missions National Monument, Mountainair, NM

AGENCY: National Park Service, Interior.

ACTION: Notice.

SUMMARY: In accordance with the Native American Graves Protection and Repatriation Act (NAGPRA), the U.S. Department of the Interior, National Park Service, Salinas Pueblo Missions National Monument (SAPU) intends to repatriate a certain cultural item that meets the definition of an unassociated funerary object and that has a cultural affiliation with the Indian Tribes or Native Hawaiian organizations in this notice.

DATES: Repatriation of the cultural item in this notice may occur on or after January 15, 2026.

ADDRESSES: Send additional, written requests for repatriation of the cultural item in this notice to Kathy Faz Garcia, Superintendent, Salinas Pueblo Missions National Monument, 105 South Ripley Avenue, P.O. Box #517, Mountainair, NM 87036, email Kathy_Faz_Garcia@nps.gov.

SUPPLEMENTARY INFORMATION: This notice is published as part of the National Park Service's administrative responsibilities under NAGPRA. The determinations in this notice are the sole responsibility of the Superintendent, SAPU, and additional information on the determinations in this notice, including the results of consultation, can be found in the summary or related records.

Abstract of Information Available

A total of one cultural item has been requested for repatriation. The unassociated funerary object is one miniature ceramic vessel.

During a 2024 review of SAPU museum exhibits and associated documentation, an object that had been on display in the Gran Quivira Museum was found to be listed on a 2003 Unassociated Funerary Object Inventory. The miniature vessel (SAPU 3406) had been identified as missing in previous museum collections inventories. It is unknown how it ended up on display. The object was excavated as part National Park Service permitted archeological research at Mound 7 at Gran Quivira (LA 120/SAPU 2.12) by Alden Hayes in 1965-1967. The vessel's provenience was recorded as Room 12, subfloor, Burial 73 within Mound 7. It was cataloged on April 8, 1966. The unassociated funerary object is in the physical custody of the National Park Service at Salinas Pueblo Missions National Monument in Mountainair, New Mexico, and has been taken off display. The unassociated funerary object is not known to have been treated with a hazardous substance.

The unassociated funerary object is from the same accession and provenience as unassociated funerary objects repatriated in 2004. These were determined through consultation as well as a cultural affiliation study to be culturally affiliated with the Hopi Tribe of Arizona; Piro-Manso-Tiwa Indian Tribe of the Pueblo of San Juan de Guadalupe; Pueblo of Acoma, New Mexico; Pueblo of Isleta, New Mexico; Pueblo of Jemez, New Mexico; Pueblo of Sandia, New Mexico; Santo Domingo Pueblo; Pueblo of Taos, New Mexico, Ysleta del Sur Pueblo; and the Zuni Tribe of the Zuni Reservation, New Mexico. Consultation specific to this vessel on March 11, 2025, confirmed the Ancestral Puebloan affiliation of the object, including the Ysleta del Sur Pueblo of Texas.

Determinations

SAPU has determined that:

• The one unassociated funerary object described in this notice is reasonably believed to have been placed intentionally with or near individual human remains, and is connected, either at the time of death or later as part of the death rite or ceremony of a Native American culture according to the Native American traditional knowledge of a lineal descendant, Indian Tribe, or Native Hawaiian organization. The unassociated funerary object has been identified by a preponderance of the evidence as related to human remains, specific individuals, or families, or removed from a specific burial site or burial area of an individual or individuals with cultural affiliation to an Indian Tribe or Native Hawaiian organization.

• There is a connection between the cultural item described in this notice and the Ysleta del Sur Pueblo.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after January 15, 2026. If competing requests for repatriation are received, SAPU must determine the most appropriate requestor prior to repatriation. Requests for joint repatriation of the cultural item are considered a single request and not competing requests. SAPU is responsible for sending a copy of this notice to the Indian Tribes and Native Hawaiian organizations identified in this notice and to any other consulting parties.

Authority: Native American Graves Protection and Repatriation Act, 25 U.S.C. 3004 and the implementing regulations, 43 CFR 10.9.

Dated: November 17, 2025.
Melanie O'Brien,
Manager, National NAGPRA Program.

[FR Doc. 2025-22889 Filed 12-15-25; 8:45 am]

BILLING CODE 4312-52-P